DEPARTMENT OF THE INTERIOR

Bureau of Land Management

[LLNVL00000. L51010000.ER0000 .LVRWF09F8510; MO4500008904; N-79734; 9-08807; TAS:14X5017]

Notice of Availability of the Record of Decision for the Lincoln County Land Act Groundwater Development and Utility Right-of-Way Project, Nevada

AGENCY: Bureau of Land Management, Interior.

ACTION: Notice of availability.

SUMMARY: The Bureau of Land Management (BLM) announces the availability of the Record of Decision (ROD) for the Lincoln County Land Act Groundwater Development and Utility Right-of-Way (ROW) Project (the project). The BLM Ely District Manager signed the ROD on January 8, 2010, which constitutes the final decision of the BLM and makes the decision effective immediately.

ADDRESSES: Copies of the ROD are available upon request from the Field Manager, BLM Ely District Office, Bureau of Land Management, or at the following Web site: http://www.blm.gov/nv/. A printed copy or electronic copy on compact disc of the ROD is available on request from the BLM Nevada State Office, 1340 Financial Boulevard, P.O. Box 12000, Reno, Nevada 89520, phone (775) 861-6681 or e-mail: nvgwprojects@blm.gov. Copies of the ROD will be available for review at the following locations in Nevada:

• BLM Nevada State Office, 1340 Financial Boulevard, Reno, Nevada

• BLM Ely District Office, 702 North Industrial Way, Ely, Nevada

• BLM Caliente Field Office, US Highway 93, Building #1, Caliente, Nevada

FOR FURTHER INFORMATION CONTACT: Penny Woods, BLM Project Manager, P.O. Box 12000, Reno, Nevada 89520, telephone: (775) 861-6466, or e-mail: nvgwprojects@blm.gov with “Lincoln County Land Act Information Request” in the subject line.

SUPPLEMENTARY INFORMATION: After extensive environmental analysis, consideration of public comments, and application of pertinent Federal laws and policies, it is the decision of the BLM to offer to Lincoln County Water District (LCWD) a ROW grant for the construction, operation, maintenance and termination of the mainline water pipeline, main power lines, pump stations, regulating tanks and other ancillary facilities of the project. Pursuant to the Lincoln County Conservation, Recreation and Development Act of 2004, Public Law 108-424, the ROW grant will authorize the use of public lands in perpetuity. The BLM's decision authorizes issuance of a ROW grant to LCWD for the proposed action as analyzed in the Final Environmental Impact Statement (EIS), issued in May 2009. The Environmental Protection Agency published a Notice of Availability of the Final EIS in the Federal Register on May 29, 2009.

The decision by BLM to offer the ROW grant to LCWD is appealable subject to 43 CFR 4, subpart E—Special Rules Applicable to Public Land Hearings and Appeals, and 43 CFR 2801.10. Any party adversely affected by this decision may appeal within the 30-day timeframe by filing an appeal with the BLM Ely District Manager at the address listed above. To file a petition for a stay of the effectiveness of this decision during the time that an appeal is being reviewed by the Interior Board of Land Appeals, the petition for a stay must accompany the Notice of Appeal (43 CFR 4.21 or 43 CFR 2801.10). The appeal and petition for a stay (if requested) must be filed with the Ely District Manager, Bureau of Land Management, 702 North Industrial Way, HC33, Box 33500, Ely Nevada 89301, or Fax: (775) 289-1910.

Copies of the appeal should also be filed with:

• Project Manager, Nevada Groundwater Projects Office, Bureau of Land Management, P.O. Box 12000, Reno, Nevada 89520, or Fax: (775) 861-6689.

• Office of Hearings and Appeals, U.S. Department of the Interior, 801 North Quincy Street, Suite 300, Arlington, Virginia 22203-1710, or Fax: (703) 235-8349.

• Office of the Solicitor, Pacific Southwest Region, U.S. Department of the Interior, 2800 Cottage Way, Suite E-1712, Sacramento, California 95825, or Fax: (916) 978-5694.

Persons interested in filing an appeal are encouraged to consult the cited Federal regulations for additional appeal requirements.

(Authority: 43 U.S.C. 1761, Pub. L. 108-424)

Rosemary Thomas,
Ely District Manager.

[FR Doc. 2010-254 Filed 1-8-10; 8:45 am]

BILLING CODE 4310-HC-P